DEPARTMENT OF AGRICULTURE

Natural Resources Conservation Service

[Docket No. NRCS-2015-0012]

Notice of Request To Extend an Information Collection

AGENCY: Natural Resources Conservation Service (NRCS), United States Department of Agriculture (USDA).

ACTION: Notice and request for comments.

SUMMARY: In accordance with the Paperwork Reduction Act of 1995 (44 U.S.C. Chapter 35), this notice announces NRCS' intent to request an extension for currently approved information collection, Volunteer Program—Earth Team. This information collection is set to expire December 31, 2015. NRCS is seeking to extend the expiration date for the volunteer Interest and Placement Summary form and the Timesheet form to December 31, 2018. The collected information helps NRCS to match the skills of individuals interested in volunteering for opportunities that will further the agency's mission. Information will be collected from potential volunteers who are 14 years of age or older.

DATES: Comments received by December 28, 2015 will be considered.

ADDRESSES: Comments should be submitted and identified by Docket Number NRCS-2015-0012, using either of the following methods:

• Government-wide rulemaking Web site: http://regulations.gov. Follow the instructions for sending comments electronically.

• Mail: Public Comments Processing, Attention: Docket No. NRCS-2015-0012, Regulatory and Agency Policy Team, Strategic Planning and Accountability, Department of Agriculture, Natural Resources Conservation Service, 5601 Sunnyside Avenue, Building 1-1112D, Beltsville, Maryland 20705.

NRCS will post comments on http://www.regulations.gov. Do not include personal identifying information (PII) with your comments. In general, personal information provided with comments will be posted. If your comment includes your address, telephone number, email address, or other PII, this information, including PII, may be available to the public. You may ask, in your comment, that your PII be withheld from public view, but this cannot be guaranteed.

FOR FURTHER INFORMATION CONTACT: Requests for additional information or copies of the information collection instrument should be directed to Michele Brown, National Volunteer Coordinator, 4407 121st Street, Urbandale, Iowa 50323; telephone: (515) 270-4864, ext. 102, and email: Michele.brown@ia.usda.gov.

SUPPLEMENTARY INFORMATION:

Volunteer Interest and Placement Summary Form

Title: NRCS-PER-002, Volunteer Interest and Placement Summary Form.

OMB Number: 0578-0024.

Expiration Date of Approval: 3 years from approval date.

Type of Request: Revision of a currently approved collection.

Abstract: Collection of this information is necessary to match volunteer assignment to agency mission as required by Federal Personnel Manual, Supplement 296-33, Subchapter 3. Agencies are authorized to recruit, train, and accept with regard to Civil Service classification laws, rules, or regulations, the services of individuals to serve without compensation. Subject to certain conditions, most volunteers may assist in agency programs/projects, and may perform activities that agency employees are allowed to perform. Volunteers must be at least 14 years of age. Persons interested in volunteering must write, call, email, visit an NRCS office, or the NRCS Web site at http://www.nrcs.usda.gov. The forms are available electronically and can be completed electronically.

Estimate of Burden: Public reporting burden for this collection of information is estimated to average 4 minutes per response.

Type of Respondents: Retirees, students, teachers, or senior citizens.

Estimated Number of Respondents: 200.

Estimated Number of Responses: 200.

Estimated Number of Responses per Respondent: 1.

Estimated Total Annual Burden on Respondents: 13 hours.

Timesheet Form

Title: NRCS-PER-004, Timesheet Form.

OMB Number: 0578-0024.

Expiration Date of Approval: 3 years from approval date.

Type of Request: Revision of a currently approved collection.

Abstract: The timesheet is an optional form and provides the volunteer or volunteer's supervisor a simplified method for tracking the volunteer's time. The form is placed in a volunteer “case file” and will be destroyed 3 years after the volunteer has completed service. In the event the volunteer is injured while engaged in volunteer activities and claims Workman's Compensation, the “case file” will be transferred to an Official Personnel Folder.

Estimate of Burden: Public reporting burden for this collection of information is estimated to average 4 minutes per response.

Type of Respondents: Retirees, students, teachers, or senior citizens.

Estimated Number of Respondents: 7,120.

Estimated Number of Responses: 3,760.

Estimated Number of Responses per Respondent: 2.

Estimated Total Annual Burden on Respondents: 474 hours.

Comments are invited on (1) whether the proposed collection of information is necessary for the proper performance of the functions of the agency, including whether the information will have practical utility; (2) the accuracy of the agency's estimate of the burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology.

All responses to this notice will be summarized and included in the request for OMB approval. All comments will become a matter of public record.

Signed this 16 day of October 2015, in Washington, DC.
Jason A. Weller,
Chief, Natural Resources Conservation Service.

[FR Doc. 2015-27286 Filed 10-26-15; 8:45 am]

BILLING CODE 3410-16-P